ENVIRONMENTAL PROTECTION AGENCY

[EPA-HQ-OAR-2021-0669; FRL-9116-01-OAR]

Phasedown of Hydrofluorocarbons: Notice of 2022 Allowance Allocations for Production and Consumption of Regulated Substances Under the American Innovation and Manufacturing Act of 2020

AGENCY: Environmental Protection Agency (EPA).

ACTION: Notice.

SUMMARY: The Environmental Protection Agency has issued calendar year 2022 allowances for the production and consumption of hydrofluorocarbons in accordance with the Agency's regulations established under the American Innovation and Manufacturing Act of 2020. The American Innovation and Manufacturing Act directs the Environmental Protection Agency by October 1 of each calendar year to determine the quantity of production and consumption allowances for the following calendar year.

FOR FURTHER INFORMATION CONTACT: Andy Chang, U.S. Environmental Protection Agency, Stratospheric Protection Division, telephone number: 202-564-6658; email address: chang.andy@epa.gov. You may also visit EPA's website at https://www.epa.gov/climate-hfcs-reduction for further information.

SUPPLEMENTARY INFORMATION: Subsection (e)(2)(D)(i) of the American Innovation and Manufacturing Act of 2020 (AIM Act) directs the Environmental Protection Agency (EPA) to determine, by October 1 of each calendar year, the quantity of allowances for the production and consumption of regulated substances that may be used for the following calendar year. EPA has codified the production and consumption baselines and phasedown schedules for regulated substances in 40 CFR 84.7. Under the phasedown schedule, for 2022, total production allowances may not exceed 344,299,157 metric tons of exchange value equivalent (MTEVe) and total consumption allowances may not exceed 273,498,315 MTEVe.

EPA's rulemaking titled Phasedown of Hydrofluorocarbons: Establishing the Allowance Allocation and Trading Program under the American Innovation and Manufacturing Act, signed September 23, 2021, describes the process by which EPA determines the number of allowances each entity is allocated. EPA has posted allowance allocations consistent with this process for calendar year 2022 allowances on its website at https://www.epa.gov/climate-hfcs-reduction. An allowance allocated under the AIM Act does not constitute a property right and is a limited authorization for the production or consumption of a regulated substance. For 2022, EPA has set aside 2.5 million MTEVe (MMTEVe) of allowances for production and 7.5 MMTEVe of allowances for consumption that it intends to allocate no later than March 31, 2022.

EPA has codified the procedure for calculating the application-specific allowance allocation in 40 CFR 84.13. These allowances are drawn from both the production and consumption allowance pools. EPA is issuing “application-specific allowances” to end users in six applications established by the AIM Act: Propellants in metered dose inhalers, defense sprays, structural composite preformed polyurethane foam for marine use and trailer use, etching of semiconductor material or wafers and the cleaning of chemical vapor deposition chambers within the semiconductor manufacturing sector, mission-critical military end uses, and onboard aerospace fire suppression. EPA has allocated 2022 application-specific allowances as shown in Table 1.

Table 1—Application-Specific Allowances for Calendar Year 2022
Entity | Application | Number of application-specific allowances issued (MTEVe) ¹
Boehringer Ingelheim | Metered Dose Inhalers | 27,789.0
GlaxoSmithKline | Metered Dose Inhalers | 414,448.2
Kindeva Drug Delivery | Metered Dose Inhalers | 541,146.0
Lupin | Metered Dose Inhalers | 30,224.8
Guardian Protective Devices | Defense Sprays | 66,639.5
Safariland | Defense Sprays | 19,404.6
Security Equipment Corporation | Defense Sprays | 262,946.7
Shamrock Filling | Defense Sprays | 138,559.0
UDAP Industries | Defense Sprays | 116,029.3
Compsys | Structural Composite Foam | 35,931.9
Wabash National Corporation | Structural Composite Foam | 11,316.7
Analog Devices | Semiconductors | 19,652.6
Applied Materials | Semiconductors | 65,378.3
Broadcom | Semiconductors | 4,232.3
Cree | Semiconductors | 36,956.0
GE Global Research Center | Semiconductors | 184.6
GlobalFoundries | Semiconductors | 216,735.8
Intel Corporation | Semiconductors | 679,471.5
Jireh Semiconductor | Semiconductors | 5,628.6
Micron Technology | Semiconductors | 54,598.3
Newport Fab DBA TowerJazz | Semiconductors | 9,190.9
NXP Semiconductor | Semiconductors | 56,910.6
Polar Semiconductor | Semiconductors | 13,192.0
Qorvo Texas | Semiconductors | 9,706.4
Samsung Austin Semiconductor | Semiconductors | 260,269.0
Semiconductor Components Industries DBA ON Semiconductor | Semiconductors | 11,502.5
Texas Instruments | Semiconductors | 73,345.6
Tower Semiconductor San Antonio | Semiconductors | 9,836.6
WaferTech | Semiconductors | 21,733.9
X-FAB Texas | Semiconductors | 1,757.7
U.S. Department of Defense | Mission-critical Military | 2,300,000.0
Raytheon Technologies | Onboard Aerospace Fire Suppression | 44,105.4
¹ Numbers may not sum due to rounding.

EPA has codified the procedure for calculating the production allowance allocation in 40 CFR 84.9. EPA has allocated calendar year 2022 production allowances as shown in Table 2.

Table 2—Production Allowances for Calendar Year 2022
Entity | Number of production allowances issued (MTEVe) ¹
Application-specific allowances ² | 5,558,824.3
Set-aside ³ | 2,500,000.0
Arkema | 40,555,947.3
Chemours | 75,115,321.8
Honeywell International | 170,413,409.6
Iofina Chemical | 1,744.9
Mexichem Fluor DBA Koura | 50,153,909.1
¹ Numbers may not sum due to rounding.
² See Table 1.
³ EPA intends to allocate set-aside allowances by March 31, 2022.

EPA has codified the procedure for calculating the consumption allowance allocation in 40 CFR 84.11. EPA has allocated calendar year 2022 consumption allowances as shown in Table 3.

Table 3—Consumption Allowances for Calendar Year 2022
Entity | Number of consumption allowances issued (MTEVe) ¹
Application-specific allowances ² | 5,558,824.3
Set-aside ³ | 7,500,000.0
A-Gas | 3,197,981.6
Advanced Specialty Gases | 284,314.2
Air Liquide USA | 496,782.6
Altair Partners | 2,908,497.9
Arkema | 30,966,544.3
Artsen | 1,023,968.7
AutoZone Parts | 2,477,946.6
AW Product Sales & Marketing | 193,823.8
Bluon | 33,342.5
Chemours | 33,265,653.1
Combs Gas | 1,283,403.1
ComStar International | 372,752.5
Daikin America | 3,109,990.8
Electronic Fluorocarbons | 103,923.4
First Continental International | 767,139.1
FluoroFusion Specialty Chemicals | 2,543,583.9
GlaxoSmithKline | 534,487.5
Harp USA | 762,890.0
Honeywell International | 82,208,205.2
Hudson Technologies | 2,977,582.0
ICool USA | 3,395,051.7
IGas Holdings | 25,853,657.7
Iofina Chemical | 1,260.5
Lenz Sales & Distribution | 1,106,426.7
Linde | 530,636.4
Mexichem Fluor DBA Koura | 25,390,556.9
Mondy Global | 317,589.6
National Refrigerants | 19,737,372.2
Nature Gas Import and Export | 816,751.0
Refrigerants, Inc. | 26,457.8
RMS of Georgia | 1,615,592.9
Showa Chemicals of America | 73,209.0
Solvay Fluorides | 1,098,594.2
Technical Chemical | 970,724.9
Transocean Offshore Deepwater Drilling | 16.7
Tulstar Products | 731,537.3
Walmart | 2,272,587.7
Waysmos USA | 632,280.2
Weitron | 6,316,123.6
Wilhelmsen Ships Service | 40,250.9
¹ Numbers may not sum due to rounding.
² See Table 1.
³ EPA intends to allocate set-aside allowances by March 31, 2022.

Hans Christopher Grundler,
Director, Office of Atmospheric Programs.

[FR Doc. 2021-21951 Filed 10-6-21; 8:45 am]

BILLING CODE 6560-50-P